DEPARTMENT OF COMMERCE

National Oceanic and Atmospheric Administration

[I.D. 010703A]

New England Fishery Management Council; Public Meeting

AGENCY: National Marine Fisheries Service (NMFS), National Oceanic and Atmospheric Administration (NOAA), Commerce.

ACTION: Public meeting.

SUMMARY: The New England Fishery Management Council (Council) will hold a special one-day Council meeting on February 24, 2004 to consider actions affecting New England fisheries in the U.S. exclusive economic zone (EEZ).

DATES: The meeting will be held on Tuesday, February 24, 2004. The meeting will begin at 8:30 a.m.

ADDRESSES: The meeting will be held at Wentworth-by-the-Sea,588 Wentworth Road, New Castle NH 03854; telephone 603/422-7322. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, February 24, 2004

Following introductions, NOAA Fisheries will present information and consult with the Council on a recommendation by the Atlantic States Fisheries Commission to re-open Federal waters to fishing for striped bass. The Council will then consider final approval of Framework Adjustment 16 to the Atlantic Sea Scallop Fishery Management Plan (FMP)/ Framework Adjustment 39 to the Northeast Multispecies FMP. The action would allow scallop vessels to fish in areas previously closed to them for groundfish conservation purposes. Measures include, but are not limited to: boundaries for the access areas; adjustments to the habitat closure definitions in the Scallop FMP to be consistent with those in Amendment 13 to the Northeast Multispecies FMP; area rotation order and fishing mortality targets; a mechanism for allocating trips and days-at-sea use in the access areas for part-time and occasional limited access scallop vessels; specifications for minimizing bycatch and bycatch mortality, including recommendations from the Council's Groundfish Committee; groundfish possession limits; observer coverage and an associated funding mechanism; and gear and other restrictions for general category scallop vessels. Following this agenda item, the Council intends to review and approve comments the proposed rule for Amendment 13 to the Northeast Multispecies FMP for submission to NOAA Fisheries. The meeting is scheduled to adjourn after any other outstanding business is addressed.

Special Accommodations

This meeting is physically accessible to people with disabilities. Requests for sign language interpretation or other auxiliary aids should be directed to Paul J. Howard (see ADDRESSES) at least 5 days prior to the meeting date.

Dated: February 2,2004.
Peter H. Fricke,
Acting Director, Office of Sustainable Fisheries, National Marine Fisheries Service.

[FR Doc. 04-2632 Filed 2-5-04; 8:45 am]

BILLING CODE 3510-22-S